DEPARTMENT OF HOMELAND SECURITY

Coast Guard

33 CFR Part 165

[Docket No. USCG-2014-0256]

Safety Zones; Fireworks Events in Captain of the Port New York Zone

AGENCY: Coast Guard, DHS.

ACTION: Notice of enforcement of regulation.

SUMMARY: The Coast Guard will enforce various safety zones within the Captain of the Port New York Zone on the specified dates and times. This action is necessary to ensure the safety of vessels and spectators from hazards associated with fireworks displays. During the enforcement period, no person or vessel may enter the safety zones without permission of the Captain of the Port (COTP).

DATES: The regulation for the safety zones described in 33 CFR 165.160 will be enforced on the dates and times listed in the table in the SUPPLEMENTARY INFORMATION section.

FOR FURTHER INFORMATION CONTACT: If you have questions on this notice, call or email Lieutenant Junior Grade Kristopher Kesting, Coast Guard; telephone 718-354-4154, email Kristopher.R.Kesting@uscg.mil.

SUPPLEMENTARY INFORMATION: The Coast Guard will enforce the safety zones listed in 33 CFR 165.160 on the specified dates and times as indicated in Table 1 below. This regulation was published in the Federal Register on November 9, 2011 (76 FR 69614).

Table 1
1. N.E.C.O Awards Fireworks, Liberty Island Safety Zone, 33 CFR 165.160(2.1) | • Launch site: A barge launch located in approximate position 40°41′16.5″ N, 074°02′23″ W (NAD 1983), located in Federal Anchorage 20-C, about 360 yards east of Liberty Island. This Safety Zone is a 360-yard radius from the barge.
| • Date: May 10, 2014.
| • Time: 11:00 p.m.-12:10 a.m.
2. Town of N. Hempstead Summer Kick Off Fireworks, Bar Beach, Hempstead Harbor Safety Zone, 33 CFR 165.160(3.9) | • Launch site: A barge launch located in approximate position 40°49′50″ N, 073°39′12″ W (NAD 1983), approximately 190 yards north of Bar Beach, Hempstead Harbor, New York. This Safety Zone is a 180-yard radius from the barge.
| • Date: May 24, 2014.
| • Time: 8:30 p.m.-9:50 p.m.
3. Dominick Neri Wedding Fireworks, Glen Island, Western Long Island Sound Safety Zone, 33 CFR 165.160(3.5) | • Launch site: A barge launch located in approximate position 40°53′12″ N, 073°46′33″ W (NAD 1983), approximately 350 yards east of the northeast corner of Glen Island, New York. This Safety Zone is a 240-yard radius from the barge.
| • Date: June 12, 2014.
| • Time: 8:30 p.m.-9:50 p.m.
4. Heritage of Pride Fireworks, Pier D, Hudson River Safety Zone, 33 CFR 165.160(5.7) | • Launch site: A barge launch located in approximate position 40°42′57.5″ N, 074°0134″ W (NAD 1983), approximately 375 yards southeast of Pier D, Jersey City, New Jersey. This Safety Zone is a 360-yard radius from the barge.
| • Date: June 29, 2014.
| • Time: 9:15 p.m.-10:30 p.m.
5. Larchmont Yacht Club Fireworks, Larchmont Harbor North Western Long Island Sound Safety Zone, 33 CFR 165.160(3.10) | • Launch site: A barge launch located in approximate position 40°55′21.8″ N, 073°44′21.7″ W (NAD 1983), approximately 560 yards north of Umbrella Rock. This Safety Zone is a 240-yard radius from the barge.
| • Date: July 4, 2014.
| • Time: 9:00 p.m.-10:22 p.m.
6. Glen Cove Independence Day Fireworks, Glen Cove, Hempstead Harbor Safety Zone, 33 CFR 165.160(3.8) | • Launch site: A barge launch located in approximate position 40°51′58″ N, 073°39′34″ W (NAD 1983), approximately 500 yards northeast of Glen Cove Breakwater Light 5 (LLNR 27065). This Safety Zone is a 360-yard radius from the barge.
| • Date: July 4, 2014.
| • Time: 8:45 p.m.-10:00 p.m.
7. City of New Rochelle Fireworks, Echo Bay, Western Long Island Sound Safety Zone, 33 CFR 165.160(3.14) | • Launch site: A shore launch located in approximate position 40°54′34.41″ N, 073°45′56.61″ W (NAD 1983), southeast portion of Harrison Island, New York. This Safety Zone is a 180-yard radius from the barge.
| • Date: July 4, 2014.
| • Time: 9:30 p.m.-10:30 p.m.
8. City of Newburgh Fireworks, Newburgh, NY Safety Zone, 33 CFR 165.160(5.12) | • Launch site: A barge launch located in approximate position 41°30′01.2″ N, 073°59′42.5″ W (NAD 1983), approximately 930 yards east of Newburgh, New York. This Safety Zone is a 360-yard radius from the barge.
| • Date: July 4, 2014.
| • Time: 9:00 p.m.-10:30 p.m.
9. Edleman Fireworks, Pier 60, Hudson River Safety Zone, 33 CFR 165.160(5.1) | • Launch site: A barge launch located in approximate position 40°44′49″ N, 074°01′02″ W (NAD 1983), approximately 500 yards west of Pier 60, Manhattan, New York. This Safety Zone is a 360-yard radius from the barge.
| • Date: July 8, 2014.
| • Time: 8:14 p.m.-9:30 p.m.

Under the provisions of 33 CFR 165.160, vessels may not enter the safety zones unless given permission from the COTP or a designated representative. Spectator vessels may transit outside the safety zones but may not anchor, block, loiter in, or impede the transit of other vessels. The Coast Guard may be assisted by other Federal, State, or local law enforcement agencies in enforcing this regulation.

This document is issued under authority of 33 CFR 165.160(a) and 5 U.S.C. 552 (a). In addition to this document in the Federal Register, the Coast Guard will provide mariners with advanced notification of enforcement periods via the Local Notice to Mariners and marine information broadcasts. If the COTP determines that a safety zone need not be enforced for the full duration stated in this document, a Broadcast Notice to Mariners may be used to grant general permission to enter the safety zone.

Dated: April 17, 2014.
G. Loebl,
Captain, U.S. Coast Guard, Captain of the Port New York.

[FR Doc. 2014-10759 Filed 5-9-14; 8:45 am]

BILLING CODE 9110-04-P